DEPARTMENT OF LABOR

Employment and Training Administration

[TA-W-63,981]

Prime Tanning Company, Incorporated, Berwick, ME; Notice of Affirmative Determination Regarding Application for Reconsideration

By application dated December 19, 2008, the Department of Labor (Department) received a request for administrative reconsideration of the Department's Notice of negative determination regarding workers' eligibility to apply for Trade Adjustment Assistance (TAA) and Alternative Trade Adjustment Assistance (ATAA) applicable to workers and former workers of the subject firm. The determination was issued on November 25, 2008. The Department's Notice of determination was published in the Federal Register on December 10, 2008 (73 FR 75138). Workers at the subject firm produce whole- and half-side leather sides, and are not separately identifiable by product line.

The negative determination was based on the Department's findings that the subject firm did not shift production to a foreign country and that neither the subject firm nor its major declining customers increased imports of articles like or directly competitive with those produced by the subject firm.

In the request for reconsideration, a company official alleged that “many shoe manufacturers, including those in our backyard, transferred their purchasing of tanned leather to those facilities in Asia” and that “the leather industry in the United States has all but disappeared.”

A careful review of previously-submitted material shows that, during the relevant period, the subject firm may have supplied component parts for articles produced by a firm with a currently TAA certified worker group.

The Department has carefully reviewed the request for reconsideration, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 2nd day of January 2009.
Linda G. Poole,
Certifying Officer, Division of Trade Adjustment Assistance.

[FR Doc. E9-648 Filed 1-14-09; 8:45 am]

BILLING CODE 4510-FN-P